DEPARTMENT OF LABOR

Employment and Training Administration

[TA-W-51,816]

Daylight Harbor, Inc., Kodiak, AK; Dismissal of Application for Reconsideration

Pursuant to 29 CFR 90.18(c) an application for administrative reconsideration was filed with the Director of the Division of Trade Adjustment Assistance for workers at Daylight Harbor, Inc., Kodiak, Alaska. The application contained no new substantial information which would bear importantly on the Department's determination. Therefore, dismissal of the application was issued.

TA-W-51,816; Daylight Harbor, Inc., Kodiak, Alaska (October 23, 2003).

Signed at Washington, DC, this 31st day of October, 2003.
Timothy Sullivan,
Director, Division of Trade Adjustment Assistance.

[FR Doc. 03-29131 Filed 11-20-03; 8:45 am]

BILLING CODE 4510-30-P